DEPARTMENT OF HEALTH AND HUMAN SERVICES

Health Resources and Services Administration

Agency Information Collection Activities: Proposed Collection; Comment Request

In compliance with the requirement for the opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, e-mail paperwork@hrsa.gov or call the HRSA Reports Clearance Officer on (301) 443-1129.

Comments are invited on: (a) Whether the proposed collection of information is necessary for the proper performance of the functions of the Agency, including whether the information shall have practical utility; (b) the accuracy of the Agency's estimate of the burden of the proposed collection of information; (c) ways to enhance the quality, utility, and clarity of the information to be collected; and (d) ways to minimize the burden of the collection of information on respondents, including through the use of automated collection techniques or other forms of information technology.

Proposed Project: Ryan White HIV/AIDS Program: Client-Level Data Reporting System: (OMB No. 0915-0323)—Extension

The Ryan White HIV/AIDS Program's client-level data reporting system, the Ryan White HIV/AIDS Program Services Report or Ryan White Services Report (RSR), created in 2008 by HRSA, is designed to collect information from grantees, as well as their subcontracted service providers, funded under Parts A, B, C, and D, and the Part F Minority AIDS Initiative of the Title XXVI of the Public Health Service Act (Ryan White HIV/AIDS Program). The Ryan White HIV/AIDS Program provides the programs with the flexibility to respond effectively to the changing HIV epidemic. Its emphasis is on providing life-saving and life-extending services for people living with HIV/AIDS across the country, and on targeting resources to areas that have the greatest needs.

All parts of the Ryan White HIV/AIDS Program specify HRSA's responsibilities in the administration of grant funds, the allocation of funds, the evaluation of programs for the population served, and the improvement of the quality of care. Accurate records of the providers receiving Ryan White HIV/AIDS Program funding, the services provided, and the clients served continue to be critical to the implementation of the legislation and thus are necessary for HRSA to fulfill its responsibilities.

The RSR provides data on the characteristics of Ryan White HIV/AIDS Program-funded grantees, their contracted service providers, and the clients being served with program funds. The reporting system consists of two online data forms: the Grantee Report, completed by all grantees, and the Service Provider Report, completed by all subcontracted service providers. Each provider that delivers direct client services also submits a data file containing one de-identified record for each client that received a Ryan White-funded service during the year. The client record contains information on demographic status, HIV medical and support services received, and HIV clinical information.

The RSR provides the grantees with the requisite information to assess quality of care and unmet need, and the ability to more accurately and efficiently report these figures to HRSA and other funding agencies than is possible with an aggregate data reporting system. In addition, HRSA will be able to perform detailed analyses and to characterize accurately the number of clients served by the Ryan White HIV/AIDS Program and the outcomes of the program services on a national scale. Because grantees associate a unique client identifier that is encrypted before transfer to each client record, HRSA is able to link data for clients across Ryan White HIV/AIDS Program-funded grantees and their subcontracted service providers.

With an increased emphasis on grantee accountability and linking performance to budget, the RSR will be used to ensure compliance with the requirements of the legislation; to evaluate the progress of programs; to monitor grantee and provider performance; to measure the Government Performance and Result Act (GPRA) and the Performance Assessment Rating Tool (PART) goals; and to meet reporting responsibilities to the Department, Congress, and OMB. In addition to meeting the goal of accountability to Congress, clients, advocacy groups, and the general public, information collected through the RSR is critical for HRSA, State and local grantees, and individual providers. Through the RSR, these groups will assess the status of existing HIV-related service delivery systems, investigate trends in service utilization, and identify areas of greatest need.

The response burden for grantees is estimated as:

Component | Source of funding | Number of respondents | Responses per grantee | Hours per response | Total hour burden
Grantee Report | Part A | 56 | 1 | 1.02 | 57
| Part B | 59 | 1 | 1.50 | 89
| Part C | 354 | 1 | 0.32 | 113
| Part D | 98 | 1 | 0.33 | 32
| Part A MAI | 56 | 1 | 1.02 | 57
| Part B MAI | 30 | 1 | 2.00 | 60
| Subtotal | 653 |  |  | 408

The response burden for service providers is estimated as:

Component | Number of respondents | Responses per provider | Total responses | Hours per response | Total burden hours
Provider Report | 2,080* | 1 | 2,080* | 2.30 | 4,784

Component | Electronic data system | Number of respondents | Responses per provider | Total responses | Hours per response | Total burden hours
Client Report | No | 56 | 1 | 56 | 106.25 | 5,950
| Yes | 1,822 | 1 | 1,822 | 3.75 | 6,832.5
| Subtotal | **1,878 |  | **1,878 |  | 12,782.5
* All providers, including providers of administrative support services and direct client services.
** Providers of direct client services only.

Total Burden Hours: 17,974.5

E-mail comments to paperwork@hrsa.gov or mail comments to the HRSA Reports Clearance Officer, Room 10-33, Parklawn Building, 5600 Fishers Lane, Rockville, Maryland, 20857. Written comments should be received within 60-days of this notice. Information can also be accessed at http://datasupport.hab.hrsa.gov/.

Dated: September 14, 2010.
Sahira Rafiullah,
Director, Division of Policy and Information Coordination.

[FR Doc. 2010-23416 Filed 9-17-10; 8:45 am]

BILLING CODE 4165-15-P